DEPARTMENT OF TRANSPORTATION

Federal Aviation Administration

14 CFR Part 39

[Docket No. FAA-2013-0524; Directorate Identifier 2012-SW-084-AD; Amendment 39-17696; AD 2013-24-19]

RIN 2120-AA64

Airworthiness Directives; Eurocopter France Helicopters

AGENCY: Federal Aviation Administration (FAA), DOT.

ACTION: Final rule.

SUMMARY: We are adopting a new airworthiness directive (AD) for Eurocopter France (Eurocopter) Model AS332C, AS332L, AS332L1, AS332L2, and EC225LP helicopters. This AD requires visually inspecting each jettisonable emergency exit window panel (window) for sealant, and removing any sealant that exists in the window's extruded sections. This AD was prompted by jettison tests during routine maintenance inspections that showed the windows failed to jettison. The actions of this AD are intended to prevent failure of the windows to jettison, so helicopter occupants can exit the aircraft during an emergency.

DATES: This AD is effective January 24, 2014.

The Director of the Federal Register approved the incorporation by reference of certain documents listed in this AD as of January 24, 2014.

ADDRESSES: For service information identified in this AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, the European Aviation Safety Agency (EASA) AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Robert Grant, Aviation Safety Engineer, Safety Management Group, FAA, 2601 Meacham Blvd., Fort Worth, Texas 76137; telephone 817-222-5110; email robert.grant@faa.gov.

SUPPLEMENTARY INFORMATION:

Discussion

On June 20, 2013, at 78 FR 37156, the Federal Register published our notice of proposed rulemaking (NPRM), which proposed to amend 14 CFR part 39 by adding an AD that would apply to Eurocopter Model AS332C, AS332L, AS332L1, AS332L2 and EC225LP helicopters that have never undergone a window-jettison test. The NPRM proposed to require visually inspecting each window for sealant, and removing any sealant that exists in the window's extruded sections. The proposed requirements were intended to prevent failure of the windows to jettison, so helicopter occupants can exit the aircraft during an emergency.

The NPRM was prompted by AD No. 2012-0152, dated August 13, 2012, issued by EASA, which is the Technical Agent for the Member States of the European Union. EASA issued AD No. 2012-0152 to correct an unsafe condition for certain Eurocopter Model AS 332 C, AS 332 C1, AS 332 L, AS 332 L1, AS 332 L2 and EC 225 LP helicopters. EASA reports that during required maintenance checks, there have been problems jettisoning emergency exit windows. According to EASA, investigations on several windows showed sealant between the extrusion and the window. “This condition, if not detected and corrected, could prevent the jettisoning of a window, possibly affecting the evacuation of passengers in the event of an emergency situation,” EASA states.

Comments

We gave the public the opportunity to participate in developing this AD, but we received no comments on the NPRM (78 FR 37156, June 20, 2013).

FAA's Determination

These helicopters have been approved by the aviation authority of France and are approved for operation in the United States. Pursuant to our bilateral agreement with France, EASA, its technical representative, has notified us of the unsafe condition described in the EASA AD. We are issuing this AD because we evaluated all information provided by EASA and determined the unsafe condition exists and is likely to exist or develop on other helicopters of these same type designs and that air safety and the public interest require adopting the AD requirements as proposed.

Differences Between This AD and the EASA AD

The EASA AD applies to Model AS 332 C1 helicopters, and this AD does not because that model is not FAA type-certificated. The EASA AD requires the inspection of each window within 110 hours time-in-service (TIS) or six months, while this AD requires the inspection within 110 hours TIS.

Related Service Information

Eurocopter issued Alert Service Bulletin (ASB) No. AS332-56.00.04 for Model AS332C, AS332C1, AS332L, AS332L1, and AS332L2 helicopters and ASB No. EC225-56A002 for the EC225LP helicopter, both Revision 0, and both dated August 8, 2012. Eurocopter advises of difficulties jettisoning the window panel when performing a jettison test due to sealant installed between the extrusion and the window. According to Eurocopter, jettison tests are to be performed every two years. The ASBs provide instructions to inspect each jettisonable window panel to determine whether there is sealant between the extrusion and the window.

Costs of Compliance

We estimate that this AD affects 19 helicopters of U.S. Registry and that labor rates average $85 a work-hour. Based on these estimates, we expect the following costs:

• Visually inspecting the windows for sealant requires 1 work-hour for a labor cost of $85 per helicopter, and $1,615 for the U.S. fleet.

• If needed, removing the sealant from the windows requires 2 work-hours for a labor cost of $170 per window.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-24-19 Eurocopter France Helicopters: Amendment 39-17696; Docket No. FAA-2013-0524; Directorate Identifier 2012-SW-084-AD.

(a) Applicability

This AD applies to Eurocopter France (Eurocopter) Model AS332C, AS332L, AS332L1, AS332L2 and EC225LP helicopters, certificated in any category, that have never undergone a window-jettison test.

(b) Unsafe Condition

This AD defines the unsafe condition as the presence of sealant on an emergency exit window panel. This condition could result in the window failing to jettison, preventing the helicopter occupants from exiting the aircraft during an emergency.

(c) Effective Date

This AD becomes effective January 24, 2014.

(d) Compliance

You are responsible for performing each action required by this AD within the specified compliance time unless it has already been accomplished prior to that time.

(e) Required Actions

Within 110 hours time-in-service (TIS), visually inspect each jettisonable emergency exit window panel (window) by doing the following:

(1) Lift the extrusion slightly using a flat tool that does not cause scoring.

(2) Inspect for sealant on the inside and outside of the window between the window and the extrusion and between the extrusion and the structure.

Note 1 to paragraph (e)(2) of this AD: The presence of a sealant bead on the extrusion parting lines, on the window pull-out seal parting lines, and on the pull-out straps is expected, as shown in Figure 1 of Eurocopter Alert Service Bulletin (ASB) No. AS332-56.00.04 or ASB No. EC225-56A002, both Revision 0, and both dated August 8, 2012, as applicable to your model helicopter.

(3) If there is no sealant as shown in Photo 1 of Figure 2 of Eurocopter ASB No. AS332-56.00.04 or ASB No. EC225-56A002, as applicable to your model helicopter, no further action is required.

(4) If there is sealant between the structure and the profile as shown in Photo 2 of Figure 2 of Eurocopter ASB No. AS332-56.00.04 or ASB No. EC225-56A002, as applicable to your model helicopter, or if you cannot determine whether there is sealant, remove the extrusion.

(5) Remove all sealant from the extrusion, the window, and the structure.

(6) If there is any crazing, cracking or other damage on the extrusion, replace with an airworthy extrusion.

(f) Alternative Methods of Compliance (AMOCs)

(1) The Manager, Safety Management Group, FAA, may approve AMOCs for this AD. Send your proposal to: Robert Grant, Aviation Safety Engineer, Safety Management Group, FAA, 2601 Meacham Blvd., Fort Worth, Texas 76137; telephone 817-222-5110; email robert.grant@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

The subject of this AD is addressed in European Aviation Safety Agency (EASA) AD No. 2012-0152, dated August 13, 2012. You may view the EASA AD at http://www.regulations.gov in Docket No. FAA-2013-0524.

(h) Subject

Joint Aircraft Service Component (JASC) Code: 5220, Emergency Exits.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Eurocopter Alert Service Bulletin No. AS332-56.00.04, Revision 0, dated August 8, 2012.

(ii) Eurocopter Alert Service Bulletin No. EC225-56A002, Revision 0, dated August 8, 2012.

(3) For Eurocopter service information identified in this AD, contact American Eurocopter Corporation, 2701 N. Forum Drive, Grand Prairie, TX 75052; telephone (972) 641-0000 or (800) 232-0323; fax (972) 641-3775; or at http://www.eurocopter.com/techpub.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on November 27, 2013.
Lance T. Gant,
Acting Directorate Manager, Rotorcraft Directorate, Aircraft Certification Service.

[FR Doc. 2013-29140 Filed 12-19-13; 8:45 am]

BILLING CODE 4910-13-P